Title 3—

The President

Notice of March 2, 2004

Continuation of the National Emergency Blocking Property of Persons Undermining Democratic Processes or Institutions in Zimbabwe

On March 6, 2003, by Executive Order 13288, I declared a national emergency blocking the property of persons undermining democratic processes or institutions in Zimbabwe, pursuant to the International Emergency Economic Powers Act (50 U.S.C. 1701-1706). I took this action to deal with the unusual and extraordinary threat to the foreign policy of the United States constituted by the actions and policies of certain members of the Government of Zimbabwe and other persons to undermine Zimbabwe's democratic processes or institutions, thus contributing to the deliberate breakdown in the rule of law in Zimbabwe, to politically motivated violence and intimidation in that country, and to political and economic instability in the southern African region.

Because the actions and policies of these persons continue to pose an unusual and extraordinary threat to the foreign policy of the United States, the national emergency declared on March 6, 2003, and the measures adopted on that date to deal with that emergency must continue in effect beyond March 6, 2004. Therefore, in accordance with section 202(d) of the National Emergencies Act (50 U.S.C. 1622(d)), I am continuing for 1 year the national emergency blocking the property of persons undermining democratic processes or institutions in Zimbabwe.

This notice shall be published in the Federal Register and transmitted to the Congress.

B

THE WHITE HOUSE,

March 2, 2004.

[FR Doc. 04-5169

Filed 3-4-04; 8:45 am]

Billing code 3195-01-P